NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: May 5, 2005; 1 p.m. to 5:30 p.m. (EST). May 6, 2005; 8 a.m. to 12:30 p.m. (EST).

Place: National Science Foundation, 4201 Wilson Boulevard, Room Stafford II Rm. 555, Arlington, VA.

Type of Meeting: Open.

Contact Person: Joan Miller, National Science Foundation, 4201 Wilson Boulevard, Arlington, VA 22230 (703) 292-8200.

Purpose of Meeting: To provide advice concerning issues related to the oversight, integrity, development and enhancement of NSF's business operations.

Agenda: May 5, 2005, PM: Welcome and Introduction of new members; Updates—Office of Budget, Finance, and Award Management, Office of Information and Resource Management, Chief Information Officer activities. Review of Facilities Subcommittee meeting. Presentation and Discussion—NSF Assessment of Organizational Excellence.

May 6, 2005, AM: Presentation and Discussion—Topics TBD (potential topics include Management of Human Capital and Updates of eGov activities and NSF Business Analysis); Meeting with NSF Diretor; Committee Discussion; Planning for next meeting; feedback; other business.

Dated: April 5, 2005.
Susanne Bolton,
Committee Management Officer.

[FR Doc. 05-7136 Filed 4-8-05; 8:45 am]

BILLING CODE 7555-01-M